NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by August 29, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

1. Applicant

Permit Application No. 2009-012, Judit Hersko, Visual and Performing Arts Department, California State University—San Marcos, San Marcos, CA 92096-0001.

Activity for Which Permit Is Requested

Enter Antarctic Specially Protected Areas. The applicant plans to enter ASPA 121—Cape Royds, ASPA 131—Canada Glacier and Lake Fryxell, ASPA 158—Hut Point Discovery Hut, ASPA 157—Backdoor Bay, Cape Royds, and ASPA 155—Cape Evans. The applicant plans to photograph and document the historic huts and observe and interview scientists working in the Specially Protected Areas.

Location

ASPA 121—Cape Royds, ASPA 131—Canada Glacier and Lake Fryxell, ASPA 158—Hut Point Discovery Hut, ASPA 157—Backdoor Bay, Cape Royds, and ASPA 155—Cape Evans.

Dates

December 1, 2008 to February 1, 2009.

Nadene G. Kennedy,
Permit Officer, Office of Polar Programs.

[FR Doc. E8-17420 Filed 7-29-08; 8:45 am]

BILLING CODE 7555-01-P